DEPARTMENT OF HEALTH AND HUMAN SERVICES

National Institutes of Health

Request for Information on the Development of the Fiscal Years 2026-2030 NIH-Wide Strategic Plan for Sexual & Gender Minority Health Research; Correction

AGENCY: National Institutes of Health, HHS.

ACTION: Notice; correction.

SUMMARY: The Department of Health and Human Services, National Institutes of Health published a Notice in the Federal Register on May 9, 2024. That Notice requires a correction in the DATES section.

FOR FURTHER INFORMATION CONTACT: To request more information on the proposed project or to obtain a copy of the data collection plans and instruments, contact: Keondra Watts, Program Analyst, NIH, Office of the Director, Office of Acquisitions and Logistics Management, Small Business Program Office, 6701 Rockledge Dr., Bethesda, MD 20892-7786, or call non-toll-free number (301) 443-8722 or Email your request, including your address to: Keondra.Watts@nih.gov.

SUPPLEMENTARY INFORMATION:

Correction:

In the Federal Register of May 9, 2024, in FR Doc. 2024-10134, beginning on page 39631, the following correction is made. On page 39632, in the first column, in the DATES section, “June 26, 2024” is corrected to read “July 15, 2024”.

Daniel R. Hernandez,
NIH Federal Register Certifying Official, National Institutes of Health.

[FR Doc. 2024-10624 Filed 5-14-24; 8:45 am]

BILLING CODE 4140-01-P